GENERAL SERVICES ADMINISTRATION

48 CFR Part 515

[Change 72; GSAR Case 2008-G506; Corrections; Docket 2008-0007; Sequence 14]

RIN 3090-AI76

General Services Administration Acquisition Regulation (GSAR); Rewrite of GSAR Part 515, Contracting by Negotiation; Corrections

AGENCY: Office of Acquisition Policy, Office of Government-wide Policy, General Services Administration (GSA).

ACTION: Final rule; corrections.

SUMMARY: The General Services Administration (GSA) is issuing a correction to Change 72; GSAR Case 2008-G506; Rewrite of GSAR Part 515, Contracting by Negotiation, which was published in the Federal Register at 81 FR 36423, June 6, 2016.

DATES: Effective: July 6, 2016.

FOR FURTHER INFORMATION CONTACT: For clarification about content, contact Ms. Dana Munson at 202-357-9652. For information pertaining to the status or publication schedules, contact the Regulatory Secretariat Division (MVCB), 1800 F Street NW., Washington, DC 20405, (202) 501-4755. Please cite GSAR Case 2008-G506; Corrections.

SUPPLEMENTARY INFORMATION: GSA published a document in the Federal Register at 81 FR 36423, June 6, 2016, inadvertently section 515.5 and 515.70 contained typographical errors.

Corrections

In the rule FR Doc. 2016-13114, published in the Federal Register at 81 FR 36423, June 6, 2016, make the following corrections:

1. On page 36425, first column, instruction number 3, remove “revised” and add “continues” in its place.

2. On page 36425, second column, under the heading “515.5 and 515.70 [Removed]”, revise instruction number 7 to read as follows:

“7. Remove subparts 515.5 and 515.70.”

Authority: 40 U.S.C. 121(c).

Dated: June 23, 2016.
Jeffrey A. Koses,
Office of Acquisition Policy, Senior Procurement Executive, General Services Administration.

[FR Doc. 2016-15238 Filed 6-28-16; 8:45 am]

BILLING CODE 6820-61-P